DEPARTMENT OF HEALTH AND HUMAN SERVICES

Centers for Disease Control and Prevention

[60Day-04-57]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404)498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Sandra Gambescia, CDC Assistant Reports Clearance Officer, 1600 Clifton Road, MS-E11, Atlanta, GA 30333 or send an e-mail to omb@cdc.gov. Written comments should be received within 60 days of this notice.

Proposed Project

State and Local Area Integrated Telephone Survey (SLAITS), OMB No. 0920-0406—Revision—National Center for Health Statistics (NCHS), Centers for Disease Control and Prevention (CDC).

The State and Local Area Integrated Telephone Survey (SLAITS) mechanism has been conducted since 1997. This is a request to continue for three years the integrated and coordinated survey system designed to collect needed health and welfare related data at the national, state, and local levels. Using the random-digit-dial sampling frame from the ongoing National Immunization Survey (NIS) and Computer Assisted Telephone Interviewing (CATI), the State and Local Area Integrated Telephone Survey (SLAITS) has quickly collected and produced data to monitor many health-related areas including child and family well-being, access to care, program participation, and changes in health care coverage at the national and State levels. The first module will be the National Survey of Children with Special Health Care Needs, which will provide data to be used for program planning and evaluation at the State and national levels.

For some SLAITS modules, questionnaire content is drawn from existing surveys within the Department of Health and Human Services as well as other Federal agencies. Other questionnaire modules were developed specifically for SLAITS. Past modules include General Health, Children's Health, Child Well-Being and Welfare, Children with Special Health Care Needs (CSHCN), Asthma Prevalence and Treatment, Knowledge of Medicaid and the State Children's Health Insurance Program (SCHIP), Survey of Early Childhood Health, and HIV/STD Related Risk Behavior.

SLAITS has provided policy analysts, program planners, and researchers with high quality data for decisionmaking and program assessment. For example, the module on Medicaid and SCHIP was prominently featured in a report to Congress on insuring children. The CSHCN module has been used by Federal and State Maternal and Child Health Bureau Directors to evaluate programs and service needs. The American Academy of Pediatrics is using the module on early childhood health to advise pediatricians on patient care standards and to inform parents about the health and well-being of young children. There is no cost to respondents other than their time to participate. The burden table below is annualized.

Respondents | Number of respondents | Number of responses per respondent | Average burden per response (in hrs.) | Total burden hours
Household screening | 296,559 | 1 | 5/60 | 24,713
Household interview | 102,000 | 1 | 25/60 | 42,500
Pilot work, pre-testing activities, etc. | 6,100 | 1 | 13/60 | 1,322
Total | 404,659 |  |  | 68,535

Dated: May 19, 2004.
Joe E. Salter,
Acting Director, Management Analysis and Services Office, Centers for Disease Control and Prevention.

[FR Doc. 04-12226 Filed 5-28-04; 8:45 am]

BILLING CODE 4163-18-P